DEPARTMENT OF DEFENSE

Office of the Secretary

[Transmittal Nos. 14-47]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-47 with attached transmittal and policy justification.

Dated: October 14, 2014.
Aaron Siegel,
Alternate OSD Federal Register Liaison Officer, Department of Defense.

BILLING CODE 5001-06-C

Transmittal No. 14-47

Notice of Proposed Issuance of Letter of Offer Pursuant to Section 36(b)(1) of the Arms Export Control Act, as amended

(i) Prospective Purchaser: Greece

(ii) Total Estimated Value:

Major Defense Equipment * | $ 0 million
Other | $500 million
TOTAL | $500 million
* As defined in Section 47(6) of the Arms Export Control Act.

(iii) Description and Quantity or Quantities of Articles or Services under Consideration for Purchase: modification and reactivation of two (2) P-3B aircraft, and the upgrade of up to five (5) P-3B aircraft that will include structural Mid Life Upgrades (MLU), Phased Depot Maintenance (PDM), Mission Integration and Management Systems (MIMS), and new flight avionics. The MLU kits will provide service life extensions for 15,000 flight hours, spare and repair parts, repair and return, support equipment, publications and technical documentation, personnel training and training equipment, U.S. Government and contractor logistics, engineering, and technical support services, and other related elements of logistics and program support.

(iv) Military Department: Navy (GLI).

(v) Prior Related Cases, if any:

FMS case GAR-$570K-26Jun91

FMS case LAF-$64M-3Mar94

FMS case MCJ-$142K-21Apr97

FMS case MCU-$1M-21Sep00

FMS case GKY-$2M-26Aug05

(vi) Sales Commission, Fee, etc., Paid, Offered, or Agreed to be Paid: None

(vii) Sensitivity of Technology Contained in the Defense Article or Defense Services Proposed to be Sold: None

(viii) Date Report Delivered to Congress: 06 Oct 14

POLICY JUSTIFICATION

Greece—P-3B Aircraft Overhaul and Upgrade

The Government of Greece has requested a possible sale for modification and reactivation of two (2) P-3B aircraft, and the upgrade of up to five (5) P-3B aircraft that will include structural Mid Life Upgrades (MLU), Phased Depot Maintenance (PDM), Mission Integration and Management Systems (MIMS), and new flight avionics. The MLU kits will provide service life extensions for 15,000 flight hours, spare and repair parts, repair and return, support equipment, publications and technical documentation, personnel training and training equipment, U.S. Government and contractor logistics, engineering, and technical support services, and other related elements of logistics and program support. The estimated cost is $500 million.

This proposed sale will contribute to the foreign policy and national security of the United States by helping to improve the security of a NATO ally.

The proposed sale for overhaul and upgrade would allow the Hellenic Navy (HN) to resume operations of its P-3B aircraft for land-based maritime patrol and reconnaissance, surveillance and protection of areas of national interest. The HN will have no difficulty absorbing this equipment into its armed forces.

The proposed sale of this equipment and support will not alter the basic military balance in the region.

The principal contractor will be Lockheed Martin Aeronautics Company in Marietta, Georgia. There are no known offset agreements proposed in connection with this potential sale.

Implementation of this proposed sale will require multiple trips to Greece by U.S. Government and contractor representatives for a period of seven years for delivery, system checkout, training, and program reviews.

There will be no adverse impact on U.S. defense readiness as a result of this proposed sale.

[FR Doc. 2014-24719 Filed 10-16-14; 8:45 am]

BILLING CODE 5001-06-P